DEPARTMENT OF COMMERCE

International Trade Administration

[C-489-502]

Circular Welded Carbon Steel Pipes and Tubes From Turkey: Final Results of Countervailing Duty Administrative Review; Calendar Year 2015

AGENCY: Enforcement and Compliance, International Trade Administration, Department of Commerce.

SUMMARY: The Department of Commerce (the Department) has completed the administrative review of the countervailing duty (CVD) order on circular welded carbon steel pipes and tubes (pipes and tubes) from Turkey for the January 1, 2015, through December 31, 2015, period of review (POR) in accordance with section 751(a) of the Tariff Act of 1930, as amended (the Act). This review covers multiple exporters/producers, two of which are being individually examined as mandatory respondents. We have determined that the net subsidy rate for Borusan Holding, A.S. (Borusan Holding), Borusan Mannesmann Boru Sanayi ve Ticaret A.S. (Borusan), and Borusan Istikbal Ticaret T.A.S. (Istikbal) (collectively, the Borusan Companies), is 0.49 percent ad valorem. We have determined that the net subsidy rate for Toscelik Profil ve Sac Endustrisi A.S. (Toscelik Profil), Tosyali dis Ticaret A.S. (Tosyali) and Tosyali Holding (Tosyali) (collectively, the Toscelik Companies), is 6.64 percent ad valorem.

Further, in these final results, we have applied the net subsidy rate calculated for the Toscelik Companies to the following four respondents not subject to individual examination: Erbosan Erciyas Boru Sanayi ve Ticaret A.S. (Erbosan), Umran Celik Born Sanayii A.S. (also known as Umran Steel Pipe Inc.) (Umran), Guven Steel Pipe (also known as Guven Celik Born San. Ve Tic. Ltd.) (Guven), and Yucel Boru ye Profil Endustrisi A.S, Yucelboru Ihracat Ithalat ye Pazarlama A.S, and Cayirova Boru Sanayi ye Ticaret A.S. (collectively, hereinafter, the Yucel Companies).

DATES: Applicable October 12, 2017.

FOR FURTHER INFORMATION CONTACT: Patricia Tran (the Toscelik Companies) at 202-482-1503, or Jolanta Lawska (the Borusan Companies) at 202-482-8362, AD/CVD Operations, Office III, Enforcement and Compliance, International Trade Administration, U.S. Department of Commerce, 1401 Constitution Avenue NW, Washington, DC 20230.

Scope of Order

The products covered by this order are certain welded carbon steel pipe and tube with an outside diameter of 0.375 inch or more, but not over 16 inches, of any wall thickness (pipe and tube) from Turkey. These products are currently classifiable under the Harmonized Tariff Schedule of the United States (HTSUS) subheadings as 7306.30.10, 7306.30.50, and 7306.90.10. Although the HTSUS subheadings are provided for convenience and customs purposes, the written description of the merchandise is dispositive.

Analysis of Comments Received

All issues raised in interested parties' briefs are addressed in the Issues and Decision Memorandum.¹ A list of the issues raised by interested parties and to which we responded in the Issues and Decision Memorandum is provided in the Appendix to this notice. The Issues and Decision Memorandum is a public document and is on file electronically via Enforcement and Compliance's Antidumping and Countervailing Duty Centralized Electronic Service System (ACCESS). ACCESS is available to registered users at https://access.trade.gov, and is available to all parties in the Central Records Unit, room B8024 of the main Commerce building. In addition, a complete version of the Issues and Decision Memorandum can be accessed directly at http://enforcement.trade.gov/frn/index.html. The signed Issues and Decision Memorandum and the electronic versions of the Issues and Decision Memorandum are identical in content.

¹ See Memorandum to Gary Taverman, Deputy Assistant Secretary for Antidumping and Countervailing Duty Operations, performing the non-exclusive functions and duties of the Assistant Secretary for Enforcement and Compliance, “Decision Memorandum for Final Results of Countervailing Duty (CVD) Administrative Review: Circular Welded Carbon Steel Pipes and Tubes from Turkey,” dated concurrently with and hereby adopted by these final results (Issues and Decision Memorandum).

Methodology

The Department conducted this review in accordance with section 751(a)(1)(A) of the Act. For each of the subsidy programs found countervailable during the POR, we determine that there is a subsidy, i.e., a government-provided financial contribution that confers a benefit to the recipient, and that the subsidy is specific.² For a complete description of the methodology underlying all of the Department's conclusions, see the Issues and Decision Memorandum.

² See sections 771(5)(B) and (D) of the Act regarding financial contribution; section 771(5)(E) of the Act regarding benefit; and section 771(5A) of the Act regarding specificity.

Final Results of Review

In accordance with 19 CFR 351.221(b)(5), we calculated an individual subsidy rate for the mandatory respondents, the Borusan Companies and the Toscelik Companies. The subsidy rate calculated for the Borusan Companies is de minimis. As discussed in the accompanying Issues and Decision Memorandum, it is the Department's practice to calculate a rate for companies that are not individually examined by averaging the weighted-average net subsidy rates for the individually-reviewed companies, excluding rates that are zero, de minimis, or based entirely on facts available. Because only the Toscelik Companies received an above-de minimis net subsidy rate, and this rate is not based entirely on facts available, for the companies for which a review was requested that were not individually examined as mandatory respondents, i.e., Erbosan, Guven, Umran, and the Yucel Companies, we assigned the subsidy rate calculated for the Toscelik Companies. As a result of this review, we determine the listed net subsidy rates for January 1, 2015, through December 31, 2015:

³ See Circular Welded Carbon Steel Pipes and Tubes from Turkey: Final Results of Countervailing Duty Administrative Review; Calendar Year 2013 and Rescission of Countervailing Duty Administrative Review, in Part, 80 FR 61361 (October 13, 2015).

⁴ Id.

⁵ Id.

Company | Net subsidy rate (percent)
Borusan Group, Borusan Holding, A.S. (Borusan Holding), Borusan Mannesmann Boru Sanayi ve Ticaret A.S. (Borusan), Borusan Istikbal Ticaret T.A.S. (Istikbal), (collectively, the Borusan Companies) | * 0.49
Toscelik Profil ve Sac Endustrisi A.S. (Toscelik Profil), Toscelik Metal Ticaret AS., and Tosyali Dis Ticaret AS. (Tosyali) (collectively, the Toscelik Companies) | 6.64
Guven Steel Pipe (also known as Guven Celik Born San. Ve Tic. Ltd.) (Guven) ³ | 6.64
Umran Celik Born Sanayii A.S. (also known as Umran Steel Pipe Inc.) (Umran) ⁴ | 6.64
Erbosan Erciyas Boru Sanayi ve Ticaret A.S. (Erbosan) | 6.64
Yucel Boru ye Profil Endustrisi A.S., Yucelboru Ihracat Ithalat ye Pazarlama A.S. and Cayirova Boru Sanayi ye Ticaret A.S. (collectively, the Yucel Companies) ⁵ | 6.64
* (de minimis).

Disclosure

We will disclose to the parties in this proceeding the calculations performed for these final results within five days of the date of publication of this notice in the Federal Register.⁶

⁶ See 19 CFR 351.224(b).

Assessment Rates

In accordance with 19 CFR 351.212(b)(2), the Department intends to issue assessment instructions to U.S. Customs and Border Protection (CBP) 15 days after the date of publication of these final results of review to liquidate shipments of subject merchandise entered, or withdrawn from warehouse, for consumption on or after January 1, 2015, through December 31, 2015. Concerning the Borusan Companies, the Department intends to issue assessment instructions to CBP to liquidate shipments of subject merchandise entered, or withdrawn from warehouse, for consumption on or after January 1, 2015, through December 31, 2015, without regard to countervailing duties.

Cash Deposits

In accordance with section 751(a)(1) of the Act, we intend to instruct CBP to collect cash deposits of estimated countervailing duties in the amounts shown for each of the respective companies listed above, except if the rate calculated in these final results is zero or de minimis, no cash deposit will be required. These cash deposit requirements, effective upon publication of these final results, shall remain in effect until further notice.

Administrative Protective Order

This notice also serves as a reminder to parties subject to an administrative protective order (APO) of their responsibility concerning the disposition of proprietary information disclosed under APO in accordance with 19 CFR 351.305(a)(3), which continues to govern business proprietary information in this segment of proceeding. Timely written notification of the return/destruction of APO materials or conversion to judicial protective order is hereby requested. Failure to comply with the regulations and the terms of an APO is a sanctionable violation which is subject to sanction.

These final results are issued and published in accordance with sections 751(a)(1) and 777(i)(1) of the Act.

Dated: October 4, 2017.
Gary Taverman,
Deputy Assistant Secretary for Antidumping and Countervailing Duty Operations, performing the non-exclusive functions and duties of the Assistant Secretary for Enforcement and Compliance.

Appendix

I. Summary

II. Background

III. List of Comments

IV. Scope of the Order

V. Subsidies Valuation Information

A. Allocation Period

B. Attribution of Subsidies

C. Loan Benchmark and Discount Interest Rates

VI. Non-Selected Rate

VII. Analysis of Programs

A. Programs Determined To Be Countervailable

1. Deduction From Taxable Income for Export Revenue

2. Short-Term Pre-Shipment Rediscount Program

3. Provision of Hot-Rolled Steel (HRS) for Less Than Adequate Remuneration (LTAR)

4. Inward Processing Certificate Exemption

5. Law 6486: Social Security Premium Incentive

6. Law 5084: Allocation of Free Land and Purchase of Land for LTAR

7. Export Financing: Export-Oriented Working Capital Program

B. Programs Found Not to Confer Countervailable Benefits

C. Programs Determined to Not Be Used

VIII. Analysis of Comments

Comment 1: Attribution of the Tosçelik Companies' Subsidy Benefits

Comment 2: Short-Term Loan Benchmark

Comment 3: Calculation of Benchmark Used To Measure Whether Tosçelik Purchased Hot-Rolled Steel (HRS) for Less Than Adequate Remuneration (LTAR)

Comment 4: Whether the HRS Benchmark From the Preliminary Results Contains HRS Purchases That Are Not Comparable to the HRS Purchased From Erdemir

Comment 5: Erbosan's Clarification of its No Shipment Certification

Comment 6: Correct Clerical Error in HRS Benchmark

IX. Recommendation

[FR Doc. 2017-22069 Filed 10-11-17; 8:45 am]

BILLING CODE 3510-DS-P